DEPARTMENT OF HOMELAND SECURITY

Coast Guard

33 CFR Part 165

[Docket Number USCG-2025-0678]

RIN 1625-AA00

Safety Zone; Beltway 8 Bridge Construction, Houston Ship Channel, Houston, TX

AGENCY: Coast Guard, DHS.

ACTION: Temporary final rule.

SUMMARY: The Coast Guard is establishing two temporary safety zones for navigable waters within a 120-yard radius of points on the north and south shore of the Houston Ship Channel under the Beltway 8 Bridge (Sam Houston Tollway Ship Channel Bridge) overhead construction. The safety zones are needed to protect personnel, vessels, and the marine environment from potential hazards created by constructing a new bridge. Entry of vessels or persons into these zones are prohibited unless specifically authorized by the Captain of the Port, Sector Houston-Galveston.

DATES: This rule is effective without actual notice from July 28, 2025 through October 22, 2025. For the purposes of enforcement, actual notice will be used from July 24, 2025 until July 28, 2025.

ADDRESSES: To view documents mentioned in this preamble as being available in the docket, go to https://www.regulations.gov, type USCG-2025-0678 in the search box and click “Search.” Next, in the Document Type column, select “Supporting & Related Material.”

FOR FURTHER INFORMATION CONTACT: If you have questions about this rule, call or email Marine Science Technician Chief Petty Officer Anthony W. Booth, Sector Houston-Galveston Waterway Management Division, Coast Guard; Telephone (713) 398-5823, Email houstonwwm@uscg.mil.

SUPPLEMENTARY INFORMATION:

I. Table of Abbreviations

CFR Code of Federal Regulations

COTP Captain of the Port

DHS Department of Homeland Security

FR Federal Register

NPRM Notice of proposed rulemaking

§ Section

U.S.C. United States Code

II. Background Information and Regulatory History

The Coast Guard is issuing this temporary rule under the authority in 5 U.S.C. 553(b)(B). This statutory provision authorizes an agency to issue a rule without prior notice and opportunity to comment when the agency for good cause finds that those procedures are impracticable. The Coast Guard finds that good cause exists for not publishing a notice of proposed rulemaking (NPRM). Publishing an NPRM would be impracticable and contrary to the public interest because these temporary safety zones must be established by July 24, 2025, when bridge construction activities will impact the waterway. The Coast Guard did not have sufficient information regarding the construction schedule to publish an NPRM and consider comments before this date. However, the Coast Guard is preparing an NPRM for a separate rulemaking project to establish a larger safety zone that will be in effect for the duration of the bridge construction and demolition activities, which are anticipated to last until 2030. Also, under 5 U.S.C. 553(d)(3), the Coast Guard finds that good cause exists for making this rule effective less than 30 days after publication in the Federal Register. Delaying this rule would be contrary to the public interest because it must be established to ensure safety on the waterway during bridge construction work beginning July 24, 2025.

III. Legal Authority and Need for Rule

The Coast Guard is issuing this rule under authority in 46 U.S.C. 70034. The Captain of the Port Sector Houston-Galveston (COTP) has determined that potential hazards associated with Beltway 8 Bridge construction starting July 24, 2025, will be a safety concern for anyone within a 120-yard radius of construction activities on the north shore of the Houston Ship Channel at 29°44.233′ N, 95°8.767′ W, and the south shore of the Houston Ship Channel at 29°44.067′ N, 95°8.783′ W. This rule is needed to protect personnel, vessels, and the marine environment in the navigable waters within the safety zones while the bridge is being constructed.

IV. Discussion of the Rule

This rule establishes safety zones from July 24, 2025, through October 22, 2025. The safety zones will cover all navigable waters within 120-yard radius of Beltway 8 bridge construction, located in Houston, TX on the north shore at 29°44.233′ N, 95°8.767′ W and south shore at 29°44.067′ N, 95°8.783′ W, in the Houston Ship Channel. The duration of the zone is intended to protect personnel, vessels, and the marine environment in these navigable waters while the new bridge is being constructed. No vessel or person will be permitted to enter the safety zones without obtaining permission from COTP or a designated representative.

V. Regulatory Analyses

We developed this rule after considering numerous statutes and Executive orders related to rulemaking. Below we summarize our analysis based on a number of these statutes and Executive orders.

A. Regulatory Planning and Review

Executive Orders 12866 (Regulatory Planning and Review) and 13563 (Improving Regulation and Regulatory Review) direct agencies to assess the costs and benefits of available regulatory alternatives and, if regulation is necessary, to select regulatory approaches that maximize net benefits. Executive Order 13563 emphasizes the importance of quantifying both costs and benefits, of reducing costs, of harmonizing rules, and of promoting flexibility.

The Office of Management and Budget (OMB) has not designated this rule a “significant regulatory action,” under section 3(f) of Executive Order 12866. Accordingly, OMB has not reviewed it. The Coast Guard has reviewed this rule and has determined that it is not a “significant regulatory action” under E.O. 12866.

This regulatory action determination is based on the size and location of the safety zones. While these temporary safety zones will be in effect for 90 days, they only restrict entry in small areas of a 120 yard radius, along the north and south shores of the Houston Ship Channel. The zone does not restrict vessel traffic in the main navigational channel of the Houston Ship Channel, and impact to vessel navigation in the area will be minimal. It also allows mariners to seek permission from the COTP to enter or transit through the zones, when safe to do so.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

While some owners or operators of vessels intending to transit the safety zone may be small entities, for the reasons stated in section V.A above, this rule will not have a significant economic impact on any vessel owner or operator.

Under section 213(a) of the Small Business Regulatory Enforcement Fairness Act of 1996 (Pub. L. 104-121), we want to assist small entities in understanding this rule. If the rule will affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves safety zones lasting only 90 days that will prohibit entry within 120 yards of Beltway 8 Bridge construction. It is categorically excluded from further review under paragraph L60(a) of Appendix A, Table 1 of DHS Instruction Manual 023-01-001-01, Rev. 1. A Record of Environmental Consideration supporting this determination is available in the docket. For instructions on locating the docket, see the ADDRESSES section of this preamble.

List of Subjects in 33 CFR Part 165

Harbors, Marine safety, Navigation (water), Reporting and recordkeeping requirements, Security measures, Waterways

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.4.

2. Add § 165.T08-0678 to read as follows:

§ 165.T08-0678 Safety Zone; Houston Ship Channel, Houston, TX.

(a) Location. The following areas are safety zones: All navigable waters in the Houston Ship Channel, Houston, TX, within 120-yard radius of Beltway 8 bridge construction, on the north shore at 29°44.233′ N, 95°8.767′ W, and south shore at 29°44.067′ N, 95°8.783′ W.

(b) Definition. As used in this section, designated representative means Coast Guard Patrol Commanders, including Coast Guard coxswains, petty officers, and other officers operating Coast Guard vessels, and Federal, state, and local officers designated by or assisting the Captain of the Port Houston-Galveston (COTP) in the enforcement of the safety zones.

(c) Regulations. (1) Under the general safety zone regulations in subpart C of this part, you may not enter the safety zone described in paragraph (a) of this section unless authorized by the COTP or a designated representative.

(2) Persons or vessels seeking to enter the safety zones must request permission from the COTP on VHF-FM channel 16 or by telephone at 866-539-8114. Those in the safety zones must comply with all lawful orders or directions given to them by the COTP or the COTP's designated representative.

(d) Enforcement period. This rule will be enforced from July 24, 2025 through October 22, 2025.

Dated: July 22, 2025.
Ronald J. Caputo Jr,
Captain, U.S. Coast Guard, Acting Captain of the Port Houston-Galveston.

[FR Doc. 2025-14175 Filed 7-25-25; 8:45 am]

BILLING CODE 9110-04-P